DEPARTMENT OF HOUSING AND URBAN DEVELOPMENT

[Docket No. FR-4851-N-01]

Notice of Funding Availability (NOFA) for the Lead Hazard Reduction Demonstration Grant Program for Fiscal Year 2003

AGENCY: Office of Healthy Homes and Lead Hazard Control, HUD.

ACTION: Notice of funding availability.

I. Program Overview

Purpose of the Program. The purpose of the Lead Hazard Reduction Demonstration Grant Program is to assist areas with the highest lead paint abatement needs in undertaking programs for abatement, inspections, risk assessments, temporary relocations, and interim control of lead-based paint hazards in eligible privately owned, single family housing units, and multifamily buildings that are occupied by low-income families.

Available Funds. Approximately $49,675,000 in Fiscal Year 2003 funds.

Eligible Applicants. The eligible applicants must be a city, county, or similar unit of local government. States and Indian Tribes may apply on behalf of units of local government within their jurisdiction, if the local government designates the state or Indian Tribe as their applicant. Multiple units of a local government (or multiple local governments) may apply as part of a consortium; however, you must identify a lead applicant that will be responsible for ensuring compliance with all requirements specified in this NOFA. If you are a state or Tribal applicant, you must have a Lead-Based Paint Contractor Certification and Accreditation Program authorized by the Environmental Protection Agency (EPA).

Application Deadline. July 31, 2003.

Match. A 25 percent match in local funds.

II. Addresses and Application Submission Procedures

(A) Application Submission. See the General Section of the SuperNOFA for specific procedures concerning the form of application submission (e.g., mailed applications, express mail, or overnight delivery). The General Section of the SuperNOFA was published in the Federal Register on April 25, 2003, at page 21002 and is available on HUD's website at http://www.hud.gov/offices/adm/grants/nofa/grplead.cfm. Applicants for this NOFA must also read the General Section of the SuperNOFA in order to submit an acceptable application. There is no application kit for this NOFA.

(B) Addresses. You, the applicant, must submit a complete application (although not required, applicants are encouraged to submit 3 additional copies of their application) to: Department of Housing and Urban Development, Office of Healthy Homes and Lead Hazard Control, ATTN: Lead Hazard Reduction Demonstration Grant Program, 451 Seventh Street, SW., Room P3206, Washington, DC 20410-0001.

For Further Information and Technical Assistance: You may contact Matthew E. Ammon, Director, Lead Hazard Control Grants Division, Office of Healthy Homes and Lead Hazard Control, at the address above; telephone (202) 755-1785, extension 158 (this is not a toll-free number). If you are a hearing -or speech-impaired person, you may reach the above telephone numbers via TTY by calling the toll-free Federal Information Relay Service at 1-800-877-8339.

III. Authority, Funding Amounts, and Amount of Funds Allocated

(A) Authority. The Lead Hazard Reduction Demonstration Grant Program is authorized by Section 1011 of the Residential Lead-Based Paint Hazard Reduction Act of 1992 (Title X of the Housing and Community Development Act of 1992). HUD's authority for making funding available under this NOFA is the Consolidated Appropriations Resolution of 2003, Pub. L. 108-7, approved February 20, 2003.

(B) Funding Available and Eligibility. Approximately $49.9 million in Fiscal Year 2003 funds is available. The minimum award amount shall be $2 million per grant. The maximum award amount shall be $4 million per grant. Approximately 12-25 grants will be awarded.

IV. Eligible Applicants and Activities

(A) Program Description. The Lead Hazard Reduction Demonstration Grant Program assists areas with the highest lead paint abatement needs in undertaking programs for abatement, inspections, risk assessments, temporary relocations, and interim control of lead-based hazards in eligible privately owned, single family housing units, and multifamily buildings that are occupied by low-income families, as defined by Section 3(b)(2) of the Housing Act of 1937. Areas with the highest lead-based paint abatement needs are identified as having: (1) The highest number of pre-1940 units of rental housing; and (2) a disproportionately high number of documented cases of lead-poisoned children.

Appendix B lists additional HUD-associated housing programs that meet the definition of eligible housing under this program.

(1) Because lead-based paint is a national problem, these funds will be awarded to programs which:

(a) Maximize the combination of children protected from lead poisoning and housing units where lead hazards are controlled;

(b) Target lead hazard control efforts at housing in which children are at greatest risk of lead poisoning;

(c) Stimulate cost-effective approaches that can be replicated;

(d) Emphasize lower cost methods of hazard control;

(e) Build local capacity to safely and effectively address lead hazards during lead hazard control, renovation, remodeling, and maintenance activities; and

(f) Affirmatively further fair housing and environmental justice.

(2) The objectives of this program include:

(a) Implementation of a national strategy, as defined in Title X of the Housing and Community Development Act of 1992 (42 U.S.C. 4851 et seq.) (Title X), to build the community's capacity necessary to eliminate lead-based paint hazards in housing, as widely and quickly as possible by establishing a workable framework for lead-based paint hazard identification and control;

(b) Mobilization of public and private resources, involving cooperation among all levels of government, the private sector, and grassroots faith-based or other community-based organizations to develop cost-effective methods for identifying and controlling lead-based paint hazards;

(c) Development of comprehensive community approaches which result in integration of all community resources (governmental, grassroots faith-based or other community-based, and private businesses) to address lead hazards in housing;

(d) Integration of lead-safe work practices into housing maintenance, repair, weatherization, rehabilitation, and other programs that will continue after the grant period ends;

(e) Establishment of a public registry (listing) of lead-safe housing or inclusion of the lead-safe status of properties in another publicly accessible address-based property information system and affirmatively marketed to families with young children; and

(f) To the greatest extent feasible, promotion of job training, employment, and other economic opportunities for low-income and minority residents and businesses that are owned by and/or employ low-income and minority residents as defined in 24 CFR 135.5 (see 59 FR 33881, June 30, 1994).

(B) Eligible Applicants and Threshold Requirements. (1) To be eligible to apply for funding under this program, the applicant must be a city, county, or similar unit of local government. States and Indian Tribes may apply on behalf of units of local government within their jurisdiction, if the local government designates the state or the Indian Tribe as their applicant. Multiple units of a local government (or multiple local governments) may apply as part of a consortium; however, you must identify a lead applicant that will be responsible for ensuring compliance with all requirements specified in this NOFA. If you are a state or Tribal applicant, you must have a Lead-Based Paint Contractor Certification and Accreditation Program authorized by the Environmental Protection Agency (EPA). You may submit only one application. In the event that multiple applications are submitted, this will be considered a technical deficiency and the application review process delayed until you notify HUD in writing which application should be reviewed. Your other applications will be returned unevaluated (see Section VIII of the General Section of the SuperNOFA). In addition, if you or any member of your consortium also applied for funding under the recent Fiscal Year 2003 Lead Hazard Control Grant Program Notice of Funding Availability, you must discuss how both programs will operate concurrently and how program activities will be combined to achieve maximum benefits.

(2) Threshold Requirements. As an eligible applicant, you must also meet all of the threshold requirements in Section V(B) of the General Section of the SuperNOFA as well as the specific threshold requirements listed in this subsection. Applications will not be rated or ranked if they do not meet the threshold requirements.

(a) Applicants must report the total number of pre-1940 rental units within the jurisdiction(s) where funds will be used (data from the 2000 U.S. Census are acceptable). Applicants must have at least 3,200 pre-1940 rental housing units in order to apply under this NOFA. Appendix C includes the top 100 areas ranked by the number of pre-1940 rental housing units as determined by the year 2000 U.S. Census. Failure to provide the number of pre-1940 rental units will result in the application not being evaluated.

(b) Provide the actual number of documented cases of lead-poisoned children residing within the applicant's jurisdiction(s) for the most recent complete calendar year and identify the source of the data. Data prior to calendar year 2000 will not be accepted. States and Indian Tribes must report the number in the city, county, or other area where funds will actually be used. Consortia of local governments must report the number in the cities or counties making up the consortium. For the purposes of this application, a “documented case” of childhood lead poisoning is a child under six years of age with a blood lead level test of equal to or greater than 10 micrograms of lead per deciliter of blood, which was performed by a medical health care provider. The actual number of documented cases (not an estimate) must be reported to HUD in order to be eligible for this grant program. Do not send the children's names, addresses, or other identifiers. Failure to provide this number in the application means that the application will not be rated or ranked.

(3) Consolidated Plans. (This requirement does not apply to Native American Tribes.)

(a) If your jurisdiction has a current HUD-approved Consolidated Plan, you must submit, as an appendix, a copy of the lead-based paint element included in the approved Consolidated Plan. If the Analysis of Impediments (AI) includes references to lead-based paint as an impediment to fair housing, this should be included in your application as well. If the same applicant agency also submitted an application for the recently published Fiscal Year 2003 Lead Hazard Control Grant Program Notice of Funding Availability, you may refer to this material for proof of documentation if the applicant agencies are the same. You are not required to resubmit this material for this NOFA.

(b) If your jurisdiction does not have a currently approved Consolidated Plan, but it is otherwise eligible for this grant program, you must include your jurisdiction's abbreviated Consolidated Plan, which includes a lead-based paint hazard control strategy developed in accordance with 24 CFR 91.235.

(4) EPA Authorization. If you are a state government or Indian (Native American) Tribal government, you must have an EPA-authorized Lead-Based Paint Training and Certification Program in effect on the application deadline date to be eligible to apply for Lead Hazard Control Grant funds. The approval date in the Federal Register notice published by the EPA will be used in determining the Training and Certification status of the applicant state or Indian (Native American) Tribal government.

(C) Eligible Activities. HUD is interested in promoting lead hazard control approaches that result in the reduction of this health threat for the maximum number of low-income families with children under six years of age, for the longest period of time, and that demonstrate techniques which are cost-effective, efficient, and replicable elsewhere. Activities must be conducted in compliance with HUD's Lead-Safe Housing Regulation, 24 CFR part 35. Copies of this Regulation are available from the Office of Healthy Homes and Lead Hazard Control website at: http://www.hud.gov/offices/lead.

(1) Not less than 90 percent of the funds made available shall be used exclusively for abatement and/or interim controls (with clearance testing), inspections, risk assessments, and temporary relocations. These include Direct Project Elements (a)-(e) that you may undertake directly or through sub-recipients:

(a) Performing dust testing, inspections, and risk assessments of eligible housing units constructed prior to 1978 to determine the presence of lead-based paint and/or lead hazards from paint, dust, or soil through the use of acceptable testing procedures. All test results must be provided to the owner of the unit, together with a notice describing the owner's legal duty to disclose the results to tenants and buyers.

(b) Conducting lead hazard control activities that may include any combination of the following:

i. Interim controls of lead-based paint hazards including lead-contaminated soil in housing (that must include specialized cleaning techniques to address lead dust, according to the HUD Guidelines, located at http://www.hud.gov/offices/lead/guidelines/hudguidelines/index.cfm.

ii. Abatement. The complete abatement of all lead-based paint hazards in a unit or structure is acceptable if it is cost-effective and if prior HUD approval is obtained. Abatement of lead-contaminated soil should be limited to areas with bare soil in the immediate vicinity of the structure, i.e. dripline or foundation of the unit being treated, and children's play areas.

All lead hazards identified in a housing unit enrolled in this grant program must be controlled or eliminated by any combination of these strategies.

(c) Carrying out temporary relocation of families and individuals during the period in which hazard control is conducted and until the time the affected unit receives clearance for reoccupancy. If families or individuals are temporarily relocated in a project which utilizes Community Development Block Grant funds, the guidance and requirements of 24 CFR 570.606(b)(2)(i)D(1)-(3) must be met. HUD recommends you review these regulations when preparing your proposal.

(d) Undertaking minimal housing rehabilitation activities that are specifically required to carry out effective hazard control, and without which the hazard control could not be completed and maintained. These grant funds may be used for lead hazard control work done in conjunction with other housing rehabilitation programs. HUD strongly encourages integration of this grant program with housing rehabilitation, maintenance, weatherization, and other energy conservation activities.

(e) Conducting clearance dust-wipe testing and laboratory analysis (the laboratory must be recognized by the National Lead Laboratory Accreditation Program (NLLAP) as being capable of performing lead analyses of samples of paint, dust-wipes, and/or soil).

(2) The following are supporting Project Elements that may be undertaken through matching or other available funds only:

(a) Conducting targeted community awareness, affirmative marketing, education or outreach programs on lead hazard control and lead poisoning prevention designed to increase the ability of the program to deliver lead hazard control services including educating owners of rental properties, tenants, and others on the Residential Lead-Based Paint Hazard Reduction Act, Lead-Safe Housing Regulation, and applicable provisions of the Fair Housing Act, and offering educational materials in languages other than English, when needed, and providing training on lead-safe maintenance and renovation practices and management. Upon request, this also would include making all materials available in alternative formats to persons with disabilities (e.g., Braille, audio, and large type).

(b) Engineering and architectural activities that are required for, and in direct support of, lead hazard control work.

(c) Procuring liability insurance for lead-hazard control activities.

(d) Supporting data collection, analysis, and evaluation of grant program activities. This includes compiling and delivering such information and data as may be required by HUD. This activity is separate from administrative costs.

(e) Purchasing or leasing equipment having a per unit cost under $5,000.

(f) Purchasing or leasing no more than two X-ray fluorescence analyzers for use by this program, if not already available.

(g) Preparing a final report at the conclusion of grant activities.

(3) Support Elements.

(a) Administrative costs. There is a 10 percent maximum for administrative costs as specified in Section 1011(j) of the Residential Lead-Based Paint Hazard Reduction Act of 1992 (Title X of the Housing and Community Development Act of 1992, Public Law 102-550). Additional information about allowable administrative costs is provided in Appendix B.

(b) Program planning and management costs of sub-grantees and other sub-recipients.

(D) Ineligible Activities. You may not use grant funds for:

(1) Purchase of real property.

(2) Purchase or lease of equipment having a per unit cost in excess of $5,000, except for the purchase of X-ray fluorescence analyzers.

(3) Chelation or other medical treatment costs related to children with elevated blood lead levels. Non-federal funds used to cover these costs may be counted as part of the required matching contribution.

(4) Lead hazard control activities in publicly owned housing, or project-based Section 8 housing (This housing stock is not eligible under Section 1011 of the Lead-Based Paint Hazard Reduction Act).

V. Requirements

Except as modified in this section, all the requirements, procedures, and principles listed in Section V of the General Section of the SuperNOFA apply to this program.

(A) Matching Contribution. You must provide a matching contribution of at least 25 percent of the requested grant sum. This may be in the form of cash, including private sector funding, or in-kind (non-cash) contributions, or a combination of these sources. With the exception of Community Development Block Grant (CDBG) funds, Federal Revenue Sharing programs, or other programs which by statute allow their funds to be considered local funds and therefore eligible to be used as matching funds, federal funds may not be used to satisfy the required 25 percent matching requirement. Federal funds may be used, however, for contributions above the statutory requirement.

(B) Program Requirements. The applicant must also comply with the following:

(1) Work Activities. All lead hazard control activities must be conducted in compliance with the applicable requirements of HUD's Lead-Safe Housing Regulation, 24 CFR part 35, and as clarified in HUD's Interpretive Guidance about the rule located at http://www.hud.gov/offices/lead/guidelines/leadsaferule/index.cfm. Activities must also comply with any additional requirements in effect under a state or Tribal Lead-Based Paint Training and Certification Program that has been authorized by the EPA pursuant to 40 CFR 745.320.

(2) Direct Lead Hazard Identification and Control Activities. Not less than 90 percent of the funds made available shall be used exclusively for abatement, inspections, risk assessments, temporary relocations, and interim control of lead-based hazards.

(3) By September 30, 2005, a statewide or jurisdiction-wide strategic plan to eliminate childhood lead poisoning as a major public health problem by 2010 (further guidance will be provided to grantees on developing the elimination plan) must be submitted to HUD. Applicants are encouraged to collaborate with grantees of the Centers for Disease Control and Prevention (CDC), which are also now required to develop such local plans. At a minimum, the plan must include the following elements:

i. Mission Statement

ii. Purpose and Background on Lead Poisoning Prevalence

iii. Goals, Objectives, and Activities

iv. Evaluation Plan

(C) Administrative Costs. There is a 10 percent maximum for administrative costs as specified in Section 1011(j) of the Residential Lead-Based Paint Hazard Reduction Act of 1992 (Title X of the Housing and Community Development Act of 1992, Public Law 102-550). Additional information about allowable administrative costs is provided in Appendix B.

(D) Period of Performance. The period of performance is 42 months. HUD reserves the right to approve no cost time extensions for a period not to exceed 12 months.

(E) Certified and Trained Performers. Funded activities must be conducted by persons qualified for the activities according to 24 CFR part 35 (possessing certification as abatement contractors, risk assessors, inspectors, abatement workers, or sampling technicians, or others having been trained in a HUD-approved course in lead-safe work practices).

(F) Coastal Barrier Resources Act. Pursuant to the Coastal Barrier Resources Act (16 U.S.C. 3501), you may not use these grant funds for properties located in the Coastal Barrier Resources System.

(G) Flood Disaster Protection Act. Under the Flood Disaster Protection Act of 1973 (42 U.S.C. 4001-4128), you may not use these grant funds for lead-based paint hazard control of a building or manufactured home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property must be obtained in accordance with section 102(a) of the Flood Disaster Protection Act (42 U.S.C. 4012a(a)). You are responsible for assuring that flood insurance is obtained and maintained for the appropriate amount and term.

(H) National Historic Preservation Act. The National Historic Preservation Act of 1966 (16 U.S.C. 470) and the regulations at 36 CFR Part 800 apply to the lead-based paint hazard control activities that are undertaken pursuant to this program. HUD and the Advisory Council for Historic Preservation have developed an optional Model Agreement for use by grantees and State Historic Preservation Officers in carrying out activities under this program. The Model Agreement may be obtained from the HUD website at: http://www.hud.gov/offices/lead/grantfrm/pgi/95_06.pdf

(I) Waste Disposal. You must handle waste disposal according to the requirements of the appropriate local, state, and federal regulatory agencies. You must handle disposal of wastes from hazard control activities that contain lead-based paint, but are not classified as hazardous in accordance with state or local law or the HUD Guidelines for the Evaluation and Control of Lead-Based Hazards in Housing (HUD Guidelines). The Guidelines are available from the HUD website at: http://www.hud.gov/offices/lead/guidelines/hudguidelines/index.cfm.

(J) Worker Protection Procedures. You must observe the procedures for worker protection established in the HUD Guidelines, as well as the requirements of the Occupational Safety and Health Administration (OSHA) (29 CFR 1926.62, Lead Exposure in Construction), or applicable state or local occupational safety and health regulations, whichever are most protective. If other applicable requirements contain more stringent requirements than the HUD Guidelines, the more rigorous standards shall be followed.

(K) Prohibited Practices. You must not engage in the following prohibited practices:

(1) Open flame burning or torching;

(2) Machine sanding or grinding without a high-efficiency particulate air (HEPA) exhaust control;

(3) Uncontained hydro blasting or high-pressure wash;

(4) Abrasive blasting or sandblasting without HEPA exhaust control;

(5) Heat guns operating above 1,100 degrees Fahrenheit;

(6) Chemical paint strippers containing methylene chloride or other volatile hazardous chemicals in a poorly ventilated space; and

(7) Dry scraping or dry sanding, except scraping in conjunction with heat guns or around electrical outlets or when treating no more than two square feet in any one interior room or space, or totaling no more than 20 square feet on exterior surfaces.

(L) Written Policies and Procedures. You must have clearly established written policies and procedures for eligibility, program marketing, unit selection, expediting work on homes occupied by children with elevated blood lead levels, and all phases of lead hazard control, including risk assessment, inspection, development of specifications, pre-hazard control blood lead testing, financing, relocation, and clearance testing. Grantees, subcontractors, sub-grantees, sub-recipients, and their contractors must adhere to these policies and procedures.

(M) Continued Availability of Lead-Safe Housing to Low-Income Families. Units in which lead hazards have been controlled under this program shall be occupied by and/or continue to be available to low-income families for at least three years as required by Title X (Section 1011). You must maintain a publicly available registry (listing) of units in which lead hazards have been controlled and ensure that these units are affirmatively marketed to agencies and families as suitable housing for families with children under six years of age. The grantee must also notify the owner of the information that is collected so that the owner will comply with disclosure requirements under 24 CFR part 35, subpart A.

(N) Testing. In developing your application budget, include costs for lead paint inspection, risk assessment, and clearance testing for each dwelling that will receive lead hazard control, as follows:

(1) General. All testing and sampling shall conform to the current HUD Guidelines and federal, state, or tribal regulations developed as part of the appropriate contractor certification program whichever is more stringent. It is particularly important to provide this full cycle of testing for lead hazard control, including interim controls. Testing must be conducted according to the HUD Guidelines, located at http://www.hud.gov/offices/lead/guidelines/hudguidelines/index.cfm, and the EPA lead hazard standards rule at 40 CFR part 745. All test results must be provided to the owner in a timely fashion, together with a notice describing the owner's legal duty to disclose the results to tenants and buyers under 24 CFR part 35, subpart A.

(a) Lead-Based Paint and Lead-Based Paint Hazard Identification. A combined inspection and risk assessment is required. You should ensure that lead paint inspection and risk assessment reports are conducted in accordance with established protocols and sufficient to support hazard control decisions.

(b) Clearance Testing. Clearance testing shall be completed in accordance with Chapter 15 of the HUD Guidelines and the EPA lead hazards standards rule at 40 CFR part 745 for abatement projects and the Lead-Safe Housing Regulation (24 CFR part 35) for lead hazard control activities or other abatement. The clearance standards shall be the more restrictive of those set by the local jurisdiction or by EPA or HUD.

(c) Blood lead testing. Before lead hazard control work begins, each occupant who is under six years of age should be tested for lead poisoning within the six months preceding the housing intervention. Any child with an elevated blood lead level must be referred for appropriate medical follow-up. The standards for such testing are described in the Centers for Disease Control and Prevention (CDC) publications Preventing Lead Poisoning in Young Children (1991), and Screening Young Children for Lead Poisoning: Guidance for State and Local Public Health Officials (1997).

(O) Cooperation with Related Research and Evaluation. (a) You shall cooperate fully with any research or evaluation sponsored by HUD, CDC, EPA or other government agency and associated with this grant program, including preservation of project data and records and compiling requested information in formats provided by the researchers, evaluators, or HUD. This may also include the compiling of certain relevant local demographic, dwelling unit, and participant data not contemplated in your original proposal. Participant data shall be subject to Privacy Act protection.

(b) If your program includes conducting research involving human subjects in a manner which requires Institutional Review Board (IRB) approval and periodic monitoring, address how you will obtain such approval and your monitoring plan (before you can receive funds from HUD for activities that require IRB approval, you must provide an assurance that your study has been reviewed and approved by an IRB and evidence of your organization's institutional assurance). Describe how you will provide informed consent (e.g., from the subjects, their parents, or their guardians, as applicable) to help ensure their understanding of, and consent to, the elements of informed consent, such as the purposes, benefits, and risks of the research. Describe how this information will be provided and how the consent will be collected. For example, describe your use of “plain language” forms, flyers, and verbal scripts, and how you plan to work with families with limited English proficiency or primary languages other than English, and with families including persons with disabilities.

(P) Data collection. You will be required to collect and maintain the data necessary to document the various lead hazard control methods used and the cost of these methods.

(Q) Section 3 Employment Opportunities. Please see Section V(E) of the General Section of the SuperNOFA. The requirements of Section 3 of the Housing and Urban Development Act of 1968 are applicable to this program.

(R) Replacing Existing Resources. Funds received under this grant program shall not be used to replace existing community resources dedicated to any ongoing project.

(S) Certifications and Assurances. You must include the certifications and assurances listed in Section I of the General Section of the SuperNOFA with your application.

(T) Davis-Bacon Act. The Davis-Bacon Act does not apply to this program. However, if you use grant funds in conjunction with other federal programs in which Davis-Bacon prevailing wage rates apply, then Davis-Bacon provisions would apply to the extent required under the other federal programs.

(U) Conducting Business in Accordance with HUD Core Values and Ethical Standards. If awarded assistance under this NOFA, you will be required, prior to entering into a new or modified grant agreement with HUD, to submit a copy of your code of conduct and describe the methods you will use to ensure that all officers, employees, and agents of your organization are aware of your code of conduct (see SectionV(B) of the General Section of the SuperNOFA for information about conducting business in accordance with HUD's core values and ethical standards).

(V) Ensuring the Participation of Small Businesses, Small Disadvantaged Businesses, and Women-Owned Businesses. HUD is committed to ensuring that small businesses, small disadvantaged businesses, and women-owned businesses participate fully in HUD's direct contracting and in contracting opportunities generated by HUD grant funds. Too often, these businesses still experience difficulty accessing information and successfully bidding on federal contracts. HUD regulations at 24 CFR 85.36(e) require recipients of assistance (grantees and sub-grantees) to take all necessary affirmative steps in contracting for purchase of goods or services to assure that minority firms, women's business enterprises, and labor surplus area firms are used when possible. Affirmative steps shall include:

(1) Placing qualified small and minority businesses and women's business enterprises on solicitation lists;

(2) Assuring that small and minority businesses, and women's business enterprises are solicited whenever they are potential sources;

(3) Dividing total requirements, when economically feasible, into smaller tasks or quantities to permit maximum participation by small and minority businesses, and women's business enterprises;

(4) Establishing delivery schedules, where the requirement permits, which encourage participation by small and minority businesses, and women's business enterprises;

(5) Using the services and assistance of the Small Business Administration (SBA), and the Minority Business Development Agency of the Department of Commerce; and

(6) Requiring the prime contractor, if subcontracts are to be let, to take the affirmative steps listed in paragraphs (e)(2)(i) through (v) above.

(W) Proposed Exceptions to HUD Requirements. Proposed methods that differ from HUD's Lead Safe Housing Rule will be considered on their merits through a separate HUD review and approval process after the grant award is made and a specific justification has been presented. HUD may consult with experts from both the public and private sectors. HUD will not approve methods that, in HUD's opinion, involve a lowering of standards that have the potential to adversely affect the health of residents, contractors or workers, or the environment.

VI. Application Selection Process

(A) Rating and Ranking. Please see Section VI (B) of the General Section of the SuperNOFA. Only those applications that meet the threshold review requirements will be rated and ranked. HUD intends to fund the highest ranked applications within the limits of funding. In addition, the work plan and budget submitted in response to this NOFA will be evaluated as part of the rating and ranking process.

(1) Adjustments to Funding. See Section VI (F) of the General Section of the SuperNOFA for additional information.

(a) HUD reserves the right to fund an amount different than the full amount requested in your application to ensure the fair distribution of funds and ensure that the purposes or requirements of this program are met.

(b) HUD will not fund any portion of your application that is not eligible for funding under specific program statutory or regulatory requirements or does not meet the requirements of this NOFA. Only the eligible portions of your application may be funded.

(B) Factors for Award Used to Evaluate and Rate Applications. The factors for rating and ranking applicants, and maximum points for each factor, are stated below. Each applicant shall submit a detailed work plan and strategy that demonstrates adequate capacity. Applications will be evaluated based on the criteria below. The maximum number of points to be awarded will be 100.

(1) HUD is encouraging applicants to undertake specific activities that will assist the Department in implementing its policy priorities. HUD's Strategic Goals and Policy Priorities are outlined in Section II of the General Section of the SuperNOFA. Activities that promote economic opportunities for low-income persons support HUD's policy priority for: Improving the Quality of Life in Our Nation's Communities. An applicant will be awarded one point under Rating Factor 3 (A) (3): Economic Opportunities for activities undertaken that specifically address this policy priority. Activities that promote the participation of grassroots faith-based or other community organizations support HUD's policy priority for: Providing Full and Equal Access to Grassroots Faith-Based or Other Community-Based Organizations. An applicant will be awarded one point under Rating Factor 3 (A) (4): Lead Hazard Control Outreach and Community Private Sector Involvement for activities undertaken that specifically addresses this policy priority. The maximum number of points to be awarded is 100. A minimum score of 75 is required for fundable applications.

Rating factor | Maximum points
1. Capacity of the Applicant and Relevant Organizational Experience | 30
2. Demonstrated Need/Extent of the Problem | 15
3. Soundness of Approach/Work Plan/Budget | 55
Total | 100

Rating Factor 1: Capacity of the Applicant and Relevant Organizational Experience (30 points)

This factor addresses your organizational capacity necessary to successfully implement the proposed activities in a timely manner. The rating of the “applicant” or the “applicant's staff” for technical merit or threshold compliance, unless otherwise specified, includes any grassroots faith-based or other community-based organizations, sub-contractors, consultants, sub-recipients, and members of consortia that are firmly committed to your project. In rating this factor, HUD will consider:

(1) The applicant's recent, relevant, and successful demonstrated experience (including governmental, parent groups, and grassroots faith-based or other community-based partners) to undertake eligible program activities. The applicant must describe the knowledge and experience of the current or proposed overall project director and day-to-day program manager in planning and managing large and complex interdisciplinary programs, especially involving housing rehabilitation, public health, or environmental programs. The applicant must demonstrate that it has sufficient personnel or will be able to retain qualified experts or professionals, and be prepared to perform lead hazard evaluation, lead hazard control intervention work, and other proposed activities within 120 days of the effective date of the grant award. HUD reserves the right to terminate the grant if sufficient personnel or qualified experts are not retained within these 120 days. In the narrative response for this factor, you should include information on your program staff, their experience and commitment to the program, salary information, and position titles. Resumes (for up to three key personnel) or position descriptions for those key personnel to be hired, and a clearly identified organizational chart for the lead hazard control grant program effort (and for the overall organization) must be included in an appendix. Indicate the percentage of time that key personnel will devote to your project (see Appendix A of this NOFA for Sample Worksheet 1-Key Personnel). The applicant's day-to-day program manager must be experienced in the management of housing rehabilitation or lead hazard control, childhood lead poisoning prevention, or similar work involving project management. Ideally, the program manager should be available at the inception of the program in order to implement this comprehensive program within the 120-day period after the effective date of the grant award. The applicant should provide a description of any previous experience in enrolling units and in completing lead hazard control work, housing rehabilitation, or other work in a timely and effective manner. Describe how any other principal components of your agency, other public entities, or other organizations will participate in implementing or otherwise supporting or participating in the grant program. You may demonstrate capacity by thoroughly describing your prior experience in initiating and implementing lead hazard control efforts and/or related environmental, health, or housing projects. You should indicate how this prior experience would be used in carrying out your proposed comprehensive Lead Hazard Reduction Demonstration Grant Program.

(2) If the applicant received previous HUD Lead-Based Paint Hazard Control Grant funding, this past experience will be evaluated in terms of cumulative progress and achievements under the previous grant(s). Where the applicant has received multiple HUD Lead Hazard Control Grants, performance under the most recent grant award will be primarily evaluated. If you are a current or prior grantee, you must provide the detail necessary to assure HUD that you will implement the proposed work immediately and perform it concurrently with existing lead hazard control grant work. The applicant must provide a description of its progress and performance in implementing the most recent grant award including the total number of housing units enrolled, assessed, in progress, and completed and cleared as of the most recent calendar quarter.

Rating Factor 2: Demonstrated Need/Extent of the Problem (15 points)

This factor addresses the extent to which there is a need for the proposed program to address a documented problem related to lead-based paint and lead-based paint hazards in your identified target area(s). An applicant will be scored in this rating factor based on their documented need as evidenced by thorough, credible, and appropriate data and information. The evaluation will be based only on the applicant's documentation of the data requested. The data submitted in response to this rating factor will be verified using data available from the Census and in cooperation with the Centers for Disease Control and Prevention.

(1)Provide the actual number of documented cases of lead-poisoned children residing within the applicant's jurisdiction for the most recent complete calendar year and identify the source of the data. Data prior to calendar year 2000 will not be accepted. States must report the number in the city, county, or other area where funds will actually be used. Consortia of local governments must report the number in the cities or counties making up the consortium. For the purposes of this application, a “documented case” of childhood lead poisoning is a child under six years of age with a blood lead level test of equal to or greater than 10 micrograms of lead per deciliter of blood, which was performed by a medical health care provider. The actual number of documented cases (not an estimate) must be reported to HUD in order to be eligible for this grant program. Do not send the children's names or addresses or other identifiers. Failure to provide this number in the application means that the application will not be rated or ranked. Points will be awarded based on the charts below.

Points awarded | Pre-1940 units of rental housing
1 | < 5,000
2 | 5,000-15,000
3 | 15,001-25,000
4 | 25,001-35,000
5 | > 35,001

Points awarded | Number of documented cases of lead-poisoned children
2 | < 100
4 | 100-249
6 | 250-499
8 | 500-999
10 | > 1,000

Rating Factor 3: Soundness of Approach /Work Plan /Budget (55 points)

This factor addresses the quality and cost-effectiveness of your proposed work plan. Applicants should develop a work plan that includes specific, measurable, and time-phased objectives for each major program activity. The applicant's work plan should reflect benchmark standards for production, expenditures, and other activities that have been developed by the Office of Healthy Homes and Lead Hazard Control. These benchmark standards, as well as policy guidance on developing work plans have been included in the Appendices A and B to this NOFA and are available at the HUD website at: http://www.hud.gov/offices/lead/lhc/pgi/index.cfm. This policy guidance provides a sample format and outline for developing a Lead Hazard Reduction Demonstration Grant Program Work Plan. In addition, applicants are also required to complete the HUD Program Outcome Logic Model (HUD-96010) included in Appendix D of this NOFA. The Logic Model is to be used by grantees to assess their own performance.

(1) An applicant is to identify and describe specific methods, measures, and tools that you will use (in addition to HUD reporting requirements) to measure progress, evaluate program effectiveness, and identify program changes necessary to improve performance. Describe how you will obtain, document, and report the information. In evaluating this, HUD will consider how you have described outcome measures and benefits of your program including:

(a) How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

(b) Applicants should describe the proposed activities and provide HUD with measurable outcome results to be achieved with the requested funds. Measurable outcome results should be stated in terms relevant to the purpose of the program funds as a direct result of the work performed within the performance period of the grant (e.g., estimated number of units to be made lead-safe, estimated number of children living in units made lead-safe, and the basis for these estimates).

Each proposed activity must be eligible as described in the NOFA and meet statutory requirements for assistance to low- and very low-income persons.

(A) Lead Hazard Control Work Plan Strategy (40 points). Describe your work plan goals and specific time-phased strategy to complete work under the grant within the 42-month period of performance for your lead hazard control grant program. You should provide information on:

(1) Implementing a Lead Hazard Control Program. Describe how you will implement the strategy for your proposed lead hazard control program. The description must include information on:

(a) How the project will be organized, managed, and staffed. You must also identify the specific steps that will be taken to train and ensure the availability of enough lead-based paint contractors and workers to conduct lead hazard control interventions, and to perform other program activities. In addition, a detailed description of the selection process for sub-grantees, subcontractors or sub-recipients, and how assistance and funding will flow from the grantee to those who will actually perform the work under the grant.

(b) The overall number of eligible privately owned housing units scheduled for lead hazard control intervention work and the strategy for their identification, selection, prioritization, and enrollment in the selected target area(s). Discuss the eligibility criteria for unit selection and how the program will identify units that meet these criteria. Explain how referrals of eligible units will be obtained from childhood lead poisoning prevention programs, other health care or housing agencies, or health providers that serve children. Explain how you would target resources to maximize the return on investment from grant funding. As funding is a constraint for this program, it is imperative to maximize the impact of grant dollars. Include in this discussion your proposed technical approach and how this choice addresses local conditions and needs as well as attempting to maximize the number of children protected from lead hazards. As there are a variety of reduction techniques that grantees can apply to lead hazards, it is important that HUD be able to assess the effectiveness of grantees' choice of technical strategy. Also discuss how referrals are made from the Section 8/Housing Choice Voucher programs and other agencies that provide housing assistance to low-income households with children including CDBG, HOME Investment Partnerships Program-funded housing programs, or other sources. (Include as attachments any referral agreements, commitment letters or other documents from other entities that describe their participation recruiting eligible units in your program.)

(c) The degree to which the work plan focuses on eligible privately owned housing units occupied by low-income families with children under six years of age. Describe your planned approaches to control lead hazards in vacant and/or occupied units before children are poisoned and your plans to ensure that the program will continue to affirmatively market and match these units made lead-safe with low-income families with children under six years of age in the future. Discuss strategies to control lead hazards in units where children have already been identified with an elevated blood lead level (EBL), including your process for referring and tracking children with EBLs, and your capacity to rapidly complete lead hazard control work in their units. Provide estimates of the number of low-income children you will assist through this program.

(d) Discuss the lead hazard control financing strategy, including eligibility requirements, terms, conditions, dollar limits, and amounts available for lead hazard control work. Applicants must also describe how the program will recapture grant funds in the event that a recipient of grant funds fails to comply with any terms and conditions of the financing arrangement (e.g. affordability, sale of property, etc.). You must discuss the way assistance from the grant funds will be administered to or on behalf of property owners (e.g. use of grants, deferred loans and/or forgivable loans and the basis and schedule for forgiveness, and the role of other resources, such as private sector financing). You should identify the entity that will administer the financing process and describe how coordination and payment between the program and contractors performing the work will be accomplished. Describe matching requirements, if any, proposed for assistance to rental property owners.

(e) Describe how your proposed program will satisfy the stated needs in the Consolidated Plan or Indian Housing Plan and eliminate impediments identified in the Analysis of Impediments (AI). Also describe how your proposed program will further and support the policy priorities of the Department: including promoting healthy homes and the quality of housing.

(2) Technical Approach/Performance. Describe your process for the conduct of lead hazard evaluation (risk assessments and/or inspections) in units of eligible privately owned housing to confirm that there are lead-based paint hazards in the housing units where lead hazard control is undertaken (see the Appendix A of this NOFA for Sample Worksheet 2).

(a) Describe your testing methods, schedule, and costs for risk assessments, paint inspections, and clearance examinations to be used. If you propose to use a more restrictive standard than the HUD/EPA thresholds (e.g., less than 0.5 percent or 1.0 mg/square centimeter for lead in paint, or less than 40, 250, 400 μg/square foot for lead in dust on floors, sills and troughs, respectively); or 400 ppm in bare soil in children's play areas and 1200 ppm for bare soil in the rest of the yard), identify the standard(s) that will be used. All testing shall be performed in accordance with applicable regulations.

(b) Describe the lead hazard control methods and strategies you will undertake and the number of units you will treat. In cases where only a few surfaces have lead hazards in a specific unit and complete abatement of all lead paint is cost-effective, the applicant must provide a detailed rationale for selecting complete abatement as a strategy. Provide an estimate of the per unit costs (and a basis for those estimates) and a schedule for initiating and completing lead hazard control work in the selected units. Discuss efforts to incorporate cost-effective lead hazard control methods. Explain your cost estimates, providing detail on how the estimates were developed, with particular references to cost effectiveness.

(c) Schedule. Provide a realistic schedule for completing key activities, by quarter, so that all activities can be completed within the period of performance of the grant. Key production activities include enrollment of units, paint inspections/risk assessments, and completion/clearance of units. When developing the application, the applicant shall take into consideration previous experience and performance in administering similar kinds of lead hazard control or rehabilitation programs.

(d) Time frames. Describe the estimated elapsed time frame for treating a typical unit that will receive lead hazard control, including referral/intake, enrollment (qualification of the unit as eligible), combined paint inspection/risk assessments, preparation of specifications or work write-up, selection of the contractor, lead hazard control intervention work activities, quality control and monitoring of work activities, and clearance. The time frame should include an estimate of the staff and contractor time required to treat a typical unit that will receive lead hazard control. Describe the schedule for emergency referrals (e.g. unit occupied by a child under six years of age with an elevated blood lead level). List the number of units projected in each of the following categories: lead-based paint inspections/risk assessments, hazard control, and clearance inspections.

(e) Workflow and Production Control. Provide guidelines and/or flowcharts showing agency/partner responsibilities for each step in the process (from intake to clearance) and describe/show how coordination and hand-offs will be handled. Discuss how the actual production status of units, from intake to final clearance, will be monitored, and how and when production bottlenecks will be identified, remedied, and monitored.

(f) Describe your contracting process, including development of specifications or adoption of existing specifications for selected lead hazard control methods. Describe the management processes you will use to ensure the cost-effectiveness of your lead hazard control methods. Your application must include a discussion of the contracting process for the conduct of lead hazard control activities in the selected units, and requirements for coordination among lead hazard control, rehabilitation, weatherization, and other contractors.

(g) Describe your plan for occupant protection or the temporary relocation of the occupants of units selected for lead hazard control work. Describe any plan to avoid overnight relocation in small-scale projects consistent with 24 CFR 35.1345(a)(2) and HUD's Interpretive Guidance of 24 CFR part 35, including J24, R18, and R19 (see http://www.hud.gov/offices/lead/guidelines/leadsaferule/index.cfm). Your work plan should address the use of safe houses and other temporary housing arrangements, storage of household goods, stipends, incentives, etc. If families or individuals are temporarily relocated in a project which utilizes Community Development Block Grant funds, the guidance and requirements of 24 CFR 570.606(b)(2)(i)D(1)-(3) must be met. HUD recommends you review these regulations when preparing your proposal.

(h) Describe your strategy for involving neighborhood or grassroots faith-based or other community-based organizations in your proposed activities. Priority activities should include increasing the enrollment of eligible privately owned housing units to receive lead treatments, but may also include inspection (including dust lead testing) and the conduct of lead hazard control activities. HUD will evaluate the proposed level of substantive involvement of such organizations during the review process.

(i) Identify and discuss the specific methods you will use (in addition to HUD reporting requirements) to document activities, progress, program effectiveness, and how changes necessary to improve performance will be implemented. Describe how you will obtain, document, and report on information collected.

(j) If you are a current or prior grantee or you have also applied to the Fiscal Year 2003 Lead Hazard Control Grant Program Notice of Funding Availability, you must describe the actions you will take to ensure that your proposed lead hazard control work will occur concurrently with other ongoing HUD lead hazard control grant work. Your application must provide the detail necessary to assure HUD that you will implement the proposed work immediately and perform it concurrently with other ongoing lead hazard control grant work.

(B) Budget. (15 points) Describe your budget within the 42-month (or less) period of performance for your lead hazard control grant program. You should provide information on:

(1) Allocation of Funds. (5 points) You should describe your detailed total budget (total budget is the federal share and matching contribution) with supporting cost justifications for all budget categories of your grant request. The budget shall include not more than 10 percent for administrative costs and not less than 90 percent for direct project elements. You should describe how you intend to provide not less than 90 percent of the funds for abatement, inspections, risk assessments, temporary relocations, and interim control of lead-based hazards and what activities will be conducted with the remaining 10 percent.

(2) Source/Use of Match Funds. (10 points) Specify the amount, sources, and proposed use of the 25 percent matching contribution, any additional resources, and how they will be provided (i.e., by cash, by in-kind services, or personnel). If in-kind contributions are used, attribute a monetary value, provide the basis for the value of the contribution, and explain how the contributions will be used in the project. Each source of contributions should be made in a letter of commitment from the contributing entity, describing the contributed resources and the monetary value. Resources directly contributed by the applicant are considered to be committed and do not require letters. Evidence of firm commitments and the appropriate use of match resources is necessary for receiving maximum points in this rating factor. Matching contributions greater than the required 25 percent match will receive a higher rating for this subfactor.

Note on Program Performance: Grantees shall take all reasonable steps to accomplish all lead hazard control activities outlined in an approved work plan within the approved period of performance. HUD will closely monitor grantee performance with particular attention placed on the completion of the number of units in the grant agreement, the expenditure of HUD grant funds as evidenced by drawdowns from the Line of Credit Control System (LOCCS), and other established community education, outreach, and training objectives. HUD reserves the right to terminate the grant prior to the expiration of the period of performance if a grantee fails to meet established work plan benchmark milestones in implementing the approved program of activities.

VII. Application Submission Requirements

(A) Application Submission

(1) Application Format. The application narrative response to the Rating Factors is limited to a maximum of 15 pages (excluding appendices and worksheets). Your response must be typewritten on one side only on 8½″ x 11″ paper using a 12-point (minimum) font with not less than ¾″ margins on all sides. Appendices should be referenced and discussed in the narrative response. Materials provided in the appendices should directly apply to the rating factor narrative.

(2) Application Checklist. Your application must contain all of the required information noted in this Program Section and Section V of the General Section of the SuperNOFA. These items include the standard forms, certifications, and assurances listed in the General Section of the SuperNOFA that are applicable to this funding (collectively referred to as the “standard forms”). The standard forms can be found in Appendix D of the General Section of the SuperNOFA. The program application items are:

(a) Transmittal Letter. The applicant (or applicants) submitting the application, the dollar amount requested, the number of units to receive lead hazard control work, what the program funds are requested for, the nature of involvement with grassroots faith-based or other community-based organizations, and the name, mailing address, telephone number, and principal contact person of “the applicant.”

(b) Checklist and Submission Table of Contents (see Appendix A of this NOFA).

(c) Abstract Summary. An abstract summary describing the goals and objectives of your proposed program (two page maximum). The abstract should briefly highlight the major goals and objectives established for the program.

(d) Budget. A detailed budget (total budget is the federal share and matching contribution) with supporting cost justifications for all budget categories of your grant request. You must provide a separate estimate for the overall grant management element (Administrative Costs), which is more fully defined in Appendix B of this NOFA. The budget shall include not more than 10 percent for administrative costs and not less than 90 percent for direct project elements. In the event of a discrepancy between grant amounts requested in various sections of the application, the amount you indicate on the HUD Form-424 will govern as the correct value.

(e) Matching Contribution. An itemized breakout (using the HUD 424) of your required matching contribution, including:

(i) Values placed on donated in-kind services;

(ii) Letters or other evidence of commitment from donors; and

(iii) The amounts and sources of contributed resources.

(f) Application Forms. All forms as required by Section V (H) of the General Section of the SuperNOFA.

(g) Grant Partners. Contracts, Memoranda of Understanding or Agreement, letters of commitment, or other documentation describing the proposed roles of agencies, local broad-based task forces, participating grassroots faith-based or other community-or neighborhood-based groups or organizations, local businesses, and others working with the program (see Appendix A of this NOFA for Sample Worksheet 3—Grant Partners).

(h) Consolidated Plan Element. A copy of the lead hazard control element included in your current program year's Consolidated Plan. (This does not apply to Native American Tribes). You should include the discussion of any lead-based paint issues in your jurisdiction's Analysis of Impediments, particularly as it addresses your target areas. If you submitted an application for the recently published FY 2003 Lead Hazard Control Grant Program Notice of Funding Availability, you may refer to this material for proof of documentation. You are not required to resubmit this material for this NOFA.

(i) Rating Factor Response. Narrative responses to the rating factors.

(B) Proposed Activities. Unless otherwise noted in this NOFA, all applicants must, at a minimum, describe the proposed activities in the narrative responses to the rating factors. Your narrative statement must be numbered in accordance with each factor for award. Please see Section V of the General Section of the SuperNOFA for additional requirements and submittal procedures.

(C) Applicant Debriefing. See Section XI (A)(4) of the General Section of the SuperNOFA for information about applicant debriefing.

VIII. Correction to Deficient Applications

See Section VIII of the General Section of the SuperNOFA for information about corrections to deficient applications.

IX. Environmental Requirements

(A) Environmental Impact. A Finding of No Significant Impact with respect to the environment has been made in accordance with HUD regulations at 24 CFR part 50 that implement Section 102(2)(C) of the National Environmental Policy Act of 1969 (42 U.S.C. 4332). The Finding of No Significant Impact is available for public inspection between 8 a.m. and 5 p.m. in the Office of the General Counsel, Regulations Division, Room 10276, U.S. Department of Housing and Urban Development, 451 Seventh Street, SW., Washington, DC 20410-0500.

(B) Environmental Requirements. Recipients of lead hazard reduction demonstration grants must comply with 24 CFR part 58—“Environmental Review Procedures for Entities Assuming HUD Environmental Responsibilities.” Recipients are prohibited from committing or expending HUD and non-HUD funds on the project until HUD approves the recipient's Request for Release of Funds (form HUD 7015.15) or the recipient has determined that the activity is either Categorically Excluded, not subject to the related federal laws and authorities pursuant to 24 CFR 58.35(b), or Exempt pursuant to 24 CFR 58.34. For part 58 procedures, see http://www.hud.gov/offices/cpd/energyenviron/environment/index.cfm. For assistance, contact Karen Choi, the Office of Healthy Homes and Lead Hazard Control Environmental Officer at (213) 894-8000, extension 3015 (this is not a toll-free number) or the HUD Environmental Review Officer in the HUD field office serving your area. If you are a hearing- or speech-impaired person, you may reach the telephone number via TTY by calling the toll-free Federal Information Relay Service at 1-800-877-8339. Recipients of a grant under this funded program will be given additional guidance in these responsibilities.

HUD Reform Act of 1989. The provisions of the HUD Reform Act of 1989 that apply to this NOFA are explained in the General Section of the SuperNOFA at Section XI (A) Public Access, Documentation and Disclosure Requirements.

(C) Paperwork Reduction Act Statement.

The information collection requirements in this NOFA have been approved by OMB under the Paperwork Reduction Act of 1995 (44 U.S.C. 3501-3520). The OMB number is 2539-0015. Under the Paperwork Reduction Act, an agency may not conduct or sponsor, and a person is not required to respond to, a collection of information unless the collection displays a valid control number.

(D) Catalog of Federal Domestic Assistance Numbers. The Federal Domestic Assistance Number for this program is 14.905.

Dated: June 25, 2003.
David Jacobs,
Director, Office of Healthy Homes and Lead Hazard Control.

Appendix A

Appendix A contains the Checklist and Submission Table of Contents and sample worksheets to assist you in your response to specific information requested in this NOFA. The submission of these worksheets is not mandatory, but has been developed to reduce the applicant's burden on providing this information.

Appendix B

The description of Administrative Costs, Eligibility of HUD-Assisted Housing, Section 1011 of Title X, Elements of a State Certification Program, and Work Plan Guidance.

Appendix C

The top 100 areas ranked by the number of pre-1940 rental housing units as determined by the year 2000 U.S. Census.

Appendix D

The required forms for application submission.

BILLING CODE 4210-70-P

BILLING CODE 4210-70-C

Appendix B

(A) Administrative Costs

I. Purpose

The intent of this HUD grant program is to allow the Grantee to be reimbursed for the reasonable direct and indirect costs, subject to a top limit, for overall management of the grant. In most instances the grantee, whether a state or a local government, principally serves as a conduit to pass funding to sub-grantees, which are to be responsible for the conducting lead-hazard reduction work. Congress set a top limit of 10 percent of the total grant sum for the grantee to perform the function of overall management of the grant program, including passing on funding to sub-grantees. The cost of that function, for the purpose of this grant, is defined as the “administrative cost” of the grant, and is limited to 10 percent of the total grant amount. The balance of 90 percent or more of the total grant sum is reserved for sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For purposes of this HUD grant program, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department, or this program). Such allocated costs are added to those projects' or departments' direct costs to determine their total costs to the organization.

III. Administrative Costs: What They Are

For the purposes of this HUD grant program, “Administrative Costs” are the grantee's allowable direct costs for the overall management of the grant program. The allowable limit of such costs that can be reimbursed under this program is 10 percent of the total grant sum. The grantee should pay particular attention to accurately estimating costs, determining the necessity for and reasonableness of costs, and correctly computing all budget items and totals. Should the grantee's actual costs for overall management of the grant program exceed 10 percent of the total grant sum, those excess costs shall be paid for by the grantee. However, excess costs paid for by the grantee may be shown as part of the requirement for cost-sharing funds to support the grant. Indirect costs must be substantiated and approved by the appropriate federal agency or the grantee must provide an indirect cost rate plan. The indirect cost rate should be indicated in your budget. Grantees should also provide a narrative statement indicating how you arrived at your costs. When possible, you should use quotes from vendors or historical data. You must support all direct labor and salaries with mandated city/state pay scales or other documentation.

IV. Administrative Costs: Definition

A. General

Administrative costs are the allowable, reasonable, and necessary direct costs related to the overall management of the HUD grant for lead-hazard reduction activities. Those costs shall be segregated in a separate cost center within the grantee's accounting system, and they are eligible costs for reimbursement as part of the grant, subject to the 10 percent limit. Such administrative costs do not include any of the staff and overhead costs directly arising from specific sub-grantee program activities eligible under Section III (C) of this NOFA, because those costs are eligible for reimbursement under a separate cost center as a direct part of project activities.

The grantee may elect to serve solely as a conduit to sub-grantees, who will in turn perform the direct program activities eligible under this NOFA, or the grantee may elect to perform all or a part of the direct program activities in other parts of its own organization, which shall have their own segregated, cost centers for those direct program activities. In either case, not more than 10 percent of the total HUD grant sum may be devoted to administrative costs, and not less than 90 percent of the total grant sum shall be devoted to the direct delivery of program activities. The grantee shall take care not to mix or attribute administrative costs to the direct project cost centers.

B. Specific

Reasonable costs for the grantee's overall grant management, coordination, monitoring, and evaluation are eligible administrative costs. Subject to the 10 percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead-poisoning is a direct project support activity;

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for, and directly related to, the overall management of the grant program; and including such goods and services as telephone, postage, rental of equipment, renter's insurance for the program management space, utilities, office supplies, and rental and maintenance (but not purchase) of office space for the program;

(5) The fair and allocable share of grantee's general costs that are not directly attributable to specific projects or operating departments such as salaries, office expenses, and other related costs for local officials (e.g., mayor and city council members, etc.), and expenses for a city's legal or accounting department which are not charged back to particular projects or other operating departments. If a grantee has an established burden rate, it should be used; if not, the grantee shall be assigned a negotiated provisional burden rate, subject to final audit.

(B) Eligibility of HUD-Assisted Housing. Eligibility of HUD-associated “eligible” housing units to participate under HUD's Lead Hazard Reduction Demonstration Grant Program:

BILLING CODE 4210-70-P

BILLING CODE 4210-70-C

(C) Section 1011 of Title X

Section 217 of Public Law 104-134 (the Omnibus Consolidated Rescissions and Appropriations Act of 1996, 110 Stat. 1321, approved April 26, 1996) amended Section 1011(a) of the Residential Lead-Based Paint Hazard Reduction Act of 1992 (Title X) to read as follows:

Section 1011 Grants for Lead-Based Paint Hazard Reduction in Target Housing

(a) General Authority. The Secretary is authorized to provide grants to eligible applicants to evaluate and reduce lead-based paint hazards in housing that is not federally-assisted housing, federally-owned housing, or public housing, in accordance with the provisions of this section. Grants shall only be made under this section to provide assistance for housing which meets the following criteria—

(1) For grants made to assist rental housing, at least 50 percent of the units must be occupied by or made available to families with incomes at or below 50 percent of the area median income level, and the remaining units shall be occupied or made available to families with incomes at or below 80 percent of the area median income level, and in all cases the landlord shall give priority in renting units assisted under this section, for not less than 3 years following the completion of lead abatement activities, to families with a child under the age of six years, except that buildings with five or more units may have 20 percent of the units occupied by families with incomes above 80 percent of area median income level;

(2) For grants made to assist housing owned by owner-occupants, all units assisted with grants under this section shall be the principal residence of families with income at or below 80 percent of the area median income level, and not less than 90 percent of the units assisted with grants under this section shall be occupied by a child under the age of six years or shall be units where a child under the age of six years spends a significant amount of time visiting; and

(3) Notwithstanding paragraphs (1) and (2), Round II grantees who receive assistance under this section may use such assistance for priority housing.

(D) Elements of a State Certification Program

To be eligible to receive a Lead-Based Paint Hazard Control grant, an applicant must be a state, tribal, or local (city or county) government. State government and Native American tribal applicants must have an EPA approved state program for certification of lead-based paint contractors, inspectors, and risk assessors in accordance with 40 CFR 745.

Background

In October 1992, Congress passed the Residential Lead-Based Paint Hazard Reduction Act (Title X of the Housing and Community Development Act of 1992). Congress assigned federal responsibility to the Environmental Protection Agency (EPA) for the definition, implementation, and oversight of state and Tribal Certification Programs for workers, contractors, and inspectors engaged in the detection and reduction of lead-based paint hazards. This legislation required EPA to develop regulations on accreditation of training programs, the certification of contractors, and the training of workers engaged in lead-based paint activities. In addition, EPA was directed to issue work practice standards. Under the statute, lead-based paint activities are defined as:

• In the case of target housing: risk assessment, inspection, and abatement; and

• In the case of any public building constructed before 1978, commercial building, bridge, or other structure or superstructure: identification of lead-based paint and materials containing lead-based paint, deleading, removal of lead from bridges, and demolition.

On August 29, 1996, EPA promulgated a final regulation that established requirements for lead-based paint activities in Target Housing and Child Occupied Facilities.

• 40 CFR part 745, subpart L addressed the requirements for the certification of individuals and the accreditation of training programs as well as work practice standards.

• 40 CFR part 745, subpart Q addresses the procedures and requirements for the approval of state programs that would be administered and enforced in lieu of the federal program in that state.

• 40 CFR 745.325 and 745.327 establish the minimum programmatic and enforcement elements that a program must have in order to be authorized. States had until August 30, 1998, to receive authorization from the Agency. After that date, EPA will administer the federal program in that state.

Any state or Tribe applying for a HUD Lead-Based Paint Hazard Control Grant must have implemented legislation and programs that fulfills the requirements of 40 CFR 745.325 and 327 and received EPA authorization for such a program. States and Tribes should be aware that HUD will not award grants for lead-based paint hazard evaluation or reduction to states without an EPA authorized program under section 404 of the Toxic Substances Control Act. An EPA administered training and certification program established in the place of an approved state program does not satisfy the requirement for a state applicant to have a federally-authorized state program. State or Tribal applicants must have received EPA authorization for their program as of the date the Lead-Based Paint Hazard Control Grant program applications are due at HUD. State and Tribal applicants should coordinate with the appropriate EPA Region to ensure their application for an authorized program is approved by the due date for the grant applications. All local government applicants will be required to use performers certified by their state or the EPA to perform lead hazard control work in their state.

Questions regarding the EPA authorization process should be directed to your EPA Regional Lead Coordinator.

BILLING CODE 4210-70-P

[FR Doc. 03-16593 Filed 6-26-03; 3:04 pm]

BILLING CODE 4210-70-C